DEPARTMENT OF COMMERCE

National Oceanic and Atmospheric Administration

RIN 0648-XD384

Fisheries of the Caribbean, Gulf of Mexico, and South Atlantic; Reef Fish Fishery of the Gulf of Mexico; Exempted Fishing Permit

AGENCY: National Marine Fisheries Service (NMFS), National Oceanic and Atmospheric Administration (NOAA), Commerce.

ACTION: Notice; extension of duration of an exempted fishing permit.

SUMMARY: NMFS announces the effective date for an exempted fishing permit (EFP) for goliath grouper research by Dr. Chris Koenig (Florida State University) and Dr. Chris Stallings (University of South Florida) is extended from August 28, 2014, to October 15, 2014. The issued EFP authorizes Drs. Koenig and Stallings to use trained for-hire fishermen to temporarily possess goliath grouper for non-lethal sampling during the course of their normal fishing activities.

ADDRESSES: The application and related documents are available for review upon written request to any of the following addresses:

• Email: Peter.Hood@noaa.gov. Include in the subject line of the email the following document identifier: “FSU_EFP”.

• Mail: Peter Hood, Southeast Regional Office, NMFS, 263 13th Avenue South, St. Petersburg, FL 33701.

FOR FURTHER INFORMATION CONTACT: Peter Hood, 727-824-5305; email: Peter.Hood@noaa.gov.

SUPPLEMENTARY INFORMATION: The EFP was granted under the authority of the Magnuson-Stevens Fishery Conservation and Management Act (16 U.S.C. 1801 et seq.), and regulations at 50 CFR 600.745(b) concerning exempted fishing. A notice of receipt of an application for an EFP published in the Federal Register on June 28, 2012 (77 FR 38585) and solicited public comment. No public comments were received on the notice and the Gulf of Mexico Fishery Management Council supported the issuance of the EFP. The EFP was issued by NMFS on July 17, 2012, with an expiration date of August 29, 2014.

The described research is part of a life history study of goliath grouper and includes a regional age structure study. This research is funded by NOAA through the Marine Fisheries Initiative (cooperative agreement number NA11NMF4330123). The research involves for-hire fishermen in the collection of biological information from up to 1,000 goliath grouper. The collection activities covered under the EFP for scientific research involves activities that could otherwise be prohibited by regulations at 50 CFR part 622, as they pertain to reef fish managed by the Gulf of Mexico and South Atlantic fishery management councils (councils). The applicant requests authorization to extend the duration of the EFP because approximately 60 percent of the 1,000 goliath grouper have been sampled and they do not anticipate reaching the project's sample size by the current deadline. The EFP allows for-hire fishermen to temporarily possess goliath grouper for non-lethal sampling during the course of their normal fishing activities. Extending the duration of the EFP from August 28, 2014, to October 15, 2014, will allow the applicants the opportunity to achieve their desired number of samples and thereby more fully meet the objectives of the EFP.

Therefore, NMFS extends the duration of the EFP from August 28, 2014, to October 15, 2014, because sampling will remain within the scope of activities already approved for the EFP. This notice serves to notify the public of the change in duration of the EFP.

Authority: 16 U.S.C. 1801 et seq.

Dated: August 11, 2014.
Emily H. Menashes,
Acting Director, Office of Sustainable Fisheries, National Marine Fisheries Service.

[FR Doc. 2014-19242 Filed 8-13-14; 8:45 am]

BILLING CODE 3510-22-P